DEPARTMENT OF TRANSPORTATION

Office of the Secretary

[Notice 2001-1]

Senior Executive Service Performance Review Boards Membership

AGENCY: Office of the Secretary, (DOT).

ACTION: Notice of Performance Review Board (PRB) appointments.

SUMMARY: DOT publishes the names of the persons selected to serve on the various Departmental PRBs as required by 5 U.S.C. 4314(c)(4).

FOR FURTHER INFORMATION CONTACT: Mari Barr Santangelo, Departmental Director, Office of Human Resource Management, (202) 366-4088.

SUPPLEMENTARY INFORMATION: The persons named below have been selected to serve on one or more Departmental PRBs.

Issued in Washington, D.C., on August 23, 2001.
Melissa J. Allen,
Assistant Secretary for Administration.

Federal Railroad Administration

Jane H. Bachner, Deputy Associate Administrator for Industry and Intermodal Policy, Federal Railroad Administration

Mark Yachmetz, Associate Administrator for Railroad Development, Federal Railroad Administration

Ray Rogers, Associate Administrator for Administration and Finance, Federal Railroad Administration

Rosalind A. Knapp, Deputy General Counsel, Office of the Secretary

Jerry Hawkins, Director, Office of Human Resources, Federal Highway Administration

Federal Transit Administration

Janet L. Sahaj, Deputy Associate Administrator, Office of Program Management, Federal Transit Administration

Rosalind A. Knapp, Deputy General Counsel, Office of the Secretary

Bruce J. Carlton, Associate Administrator for Policy and International Trade, Maritime Administration

Glenda Tate, Assistant Administrator for Human Resource Management, Federal Aviation Administration

Office of Inspector General

Christine Jung, Assistant Inspector General for Investigations, Department of Agriculture

Michael Phelps, Deputy Assistant Inspector General for Auditing, Department of Housing and Urban Development

Judith J. Gordon, Assistant Inspector General for Systems Evaluation, Department of Commerce

Nancy Hendricks, Assistant Inspector General for Audit, Federal Emergency Management Administration

Steven A. McNamara, Assistant Inspector General for Audit, Department of Education

Everett Mosley, Deputy Inspector General, Agency for International Development

Billy Sauls, Assistant Inspector General for Business Protection, U.S. Postal Service

Joseph R. Willever, Deputy Inspector General, Office of Personnel Management

Thomas J. Bondurant, Assistant Inspector General for Investigations, Department of Justice

Allen P. Fallin, Assistant Inspector General for Investigations, Environmental Protection Agency

Elissa Karpf, Deputy Assistant Inspector General for External Audits, Environmental Protection Agency

United States Coast Guard

RADM F. L. Ames, Assistant Commandant for Human Resources, United States Coast Guard

RADM K.J. Eldridge, Assistant Commandant for Governmental and Public Affairs, United States Coast Guard

RADM J.W. Underwood, Director, Office of Intelligence and Security, United States Coast Guard

RADM J.J. Hathaway, Director, Operations and Interagency Support Division, United States Coast Guard

Janet L. Sahaj, Deputy Associate Administrator, Office of Program Management, Federal Transit Administration

Jerry Hawkins, Director, Office of Human Resources, Federal Highway Administration

National Highway Traffic Safety Administration

Edward Brigham, Associate Administrator for Management and Administration, Research and Special Programs Administration

Adele Derby, Associate Administrator for State and Community Services, National Highway Traffic Safety Administration

Stephen Kratzke, Associate Administrator for Safety Performance Standards, National Highway Traffic Safety Administration

Dorrie Aldrich, Associate Administrator for Administration, Federal Transit Administration

Brian McLaughlin, Associate Administrator for Policy and Program Development, Federal Motor Carrier Safety Administration

Frederick G. Wright, Jr., Program Manager, Safety, Federal Highway Administration

Federal Highway Administration

King W. Gee, Program Manager, Infrastructure, Federal Highway Administration

Paul L. Gretch, Director, Office of International Aviation, Office of the Assistant Secretary for Aviation and International Affairs, Office of the Secretary

Kenneth N. Weinstein, Associate Administrator for Safety Assurance, National Highway Traffic Safety Administration

George Ostensen, Director of Field Services—Midwest, Federal Highway Administration

Michael J. Vecchietti, Director of Administration, Federal Highway Administration

Jane Bachner, Deputy Associate Administrator for Industry and Intermodal Policy, Federal Railroad Administration

Maritime Administration

Margaret D. Blum, Associate Administrator for Port, Intermodal and Environmental Activities, Maritime Administration

John L. Mann, Jr., Associate Administrator for Administration, Maritime Administration

Jean E. McKeever, Associate Administrator for Shipbuilding, Maritime Administration

Jerry A. Hawkins, Director, Office of Human Resources, Federal Highway Administration

Edward Brigham, Associate Administrator for Management and Administration, Research and Special Programs Administration

Neil R. Eisner, Assistant General Counsel for Regulation and Enforcement, Office of the General Counsel, Office of the Secretary

Office of the Secretary

Transportation Administrative Service Center

Bureau of Transportation Statistics

Michael Dannenhauer, Executive Secretariat, Office of the Secretary

Randall Bennett, Director, Office of Aviation and International Economics, Office of the Secretary

Roberta D. Gabel, Assistant General Counsel for Environmental, Civil Rights, and General Law, Office of the Secretary

Ellen Heup, Director of Program Review, Office of the Secretary

Patricia Prosperi, Principal, TASC Information Services, TASC

Edward L. Thomas, Associate Administrator for Research, Demonstration and Innovation, Federal Transit Administration

Brian McLaughlin, Associate Administrator for Policy and Program Development, Federal Motor Carrier Safety Administration

Research and Special Programs Administration

Edward Brigham, Associate Administrator for Management and Administration, Research and Special Programs Administration

Patricia A. Prosperi, Principal, TASC Information Services, TASC

Cynthia J. Burbank, Program Manager, Planning and Environment, Federal Highway Administration

RADM F. L. Ames, Assistant Commandant for Human Resources, United States Coast Guard

Federal Motor Carrier Safety Administration

Brian McLaughlin, Associate Administrator for Policy and Program Development, Federal Motor Carrier Safety Administration

Susan Binder, Director, Office of Legislation and Strategic Planning, Federal Highway Administration

Thomas W. Herlihy, Assistant General Counsel for Legislation, Office of the General Counsel, Office of the Secretary

Arthur Hamilton, Program Manager, Federal Lands Highway, Federal Highway Administration

William Walsh, Associate Administrator for Plans and Policy, National Highway Traffic Safety Administration

[FR Doc. 01-21717 Filed 8-27-01; 8:45 am]

BILLING CODE 4910-62-P